COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from Procurement List.

SUMMARY: The Committee is proposing to add to the Procurement List a commodity and services to be furnished by nonprofit agencies employing persons who are blind or have other severe disabilities, and to delete commodities previously furnished by such agencies.

DATES: Comments must be received on or before: December 12, 2000.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740.

SUPPLEMENTARY INFORMATION: This notice is published pursuant to 41 U.S.C. 47(a)(2) and 41 CFR 51-2.3. Its purpose is to provide interested persons an opportunity to submit comments on the possible impact of the proposed actions.

Additions

If the Committee approves the proposed addition, all entities of the Federal Government (except as otherwise indicated) will be required to procure the commodity and services listed below from nonprofit agencies employing persons who are blind or have other severe disabilities. I certify that the following action will not have a significant impact on a substantial number of small entities. The major factors considered for this certification were:

1. The action will not result in any additional reporting, recordkeeping or other compliance requirements for small entities other than the small organizations that will furnish the commodity and services to the Government.

2. The action will result in authorizing small entities to furnish the commodity and services to the Government.

3. There are no known regulatory alternatives which would accomplish the objectives of the Javits-Wagner-O'Day Act (41 U.S.C. 46-48c) in connection with the commodity and services proposed for addition to the Procurement List. Comments on this certification are invited. Commenters should identify the statement(s) underlying the certification on which they are providing additional information.

The following commodity and services have been proposed for addition to Procurement List for production by the nonprofit agencies listed:

Commodity

Line, Multi-Loop

1670-01-062-6301

1670-01-062-6303

1670-01-062-6306

1670-01-062-6309

1670-01-062-6312

1670-01-062-6313

1670-01-064-4451

1670-01-064-4452

1670-01-064-4454

1670-01-107-7652

NPA: Industrial Opportunities, Inc., Marble, North Carolina

Services

Administrative Services, U.S. Department of Agriculture, Farm Service Agency, Kansas City, Missouri

NPA: Independence & Blue Springs Industries, Inc., Independence, Missouri

Administrative Services, U.S. Department of Agriculture, Farm Service Agency, Kansas City, Missouri

NPA: St. Vincent DePaul Rehabilitation Services of Texas, Inc., Austin, Texas

Administrative Services, U.S. Department of Agriculture, Rural Development Agency, St. Louis, Missouri

NPA: St. Vincent DePaul Rehabilitation Services of Texas, Inc., Austin, Texas

Food Service, Kirtland Air Force Base, New Mexico

NPA: RCI, Inc., Albuquerque, New Mexico

Janitorial/Custodial

Department of the Treasury, Federal Law Enforcement Training Center, Bldgs. 161, 163, 165, 167, Glynco, Georgia

NPA: Goodwill Industries of the Coastal Empire, Inc., Savannah, Georgia

Warehousing & Distribution Service

Defense Supply Center—Philadelphia, Philadelphia, Pennsylvania

NPA: The Travis Association for the Blind Austin, Texas

Deletions

I certify that the following action will not have a significant impact on a substantial number of small entities. The major factors considered for this certification were:

1. The action will not result in any additional reporting, recordkeeping or other compliance requirements for small entities.

2. The action will result in authorizing small entities to furnish the commodity and services to the Government.

3. There are no known regulatory alternatives which would accomplish the objectives of the Javits-Wagner-O'Day Act (41 U.S.C. 46-48c) in connection with the commodity and services proposed for deletion from the Procurement List.

The following commodities have been proposed for deletion from the Procurement List:

Commodity

Cutlery, Heavy Duty

M.R. 533

M.R. 534

M.R. 535

Applicator, Wax

M.R. 922

Louis R. Bartalot,
Deputy Director (Operations).

[FR Doc. 00-28999 Filed 11-9-00; 8:45 am]

BILLING CODE 6353-01-P